DEPARTMENT OF TRANSPORTATION

Federal Railroad Administration

[Docket No. FRA-2022-0002-N-17]

Proposed Agency Information Collection Activities; Comment Request

AGENCY: Federal Railroad Administration (FRA), Department of Transportation (DOT).

ACTION: Notice of information collection; request for comment.

SUMMARY: Under the Paperwork Reduction Act of 1995 (PRA) and its implementing regulations, FRA will seek approval of the Information Collection Request (ICR) abstracted below. Before submitting this ICR to the Office of Management and Budget (OMB) for approval, FRA is soliciting public comment on specific aspects of the activities identified in the ICR.

DATES: Interested persons are invited to submit comments on or before January 13, 2023.

ADDRESSES: Written comments and recommendations for the proposed ICR should be submitted on regulations.gov to the docket, Docket No. FRA-2022-0002-N-14. All comments received will be posted without change to the docket, including any personal information provided. Please refer to the assigned OMB control number in any correspondence submitted. FRA will summarize comments received in response to this notice in a subsequent notice and include them in its information collection submission to OMB for approval.

FOR FURTHER INFORMATION CONTACT: Ms. Hodan Wells, Information Collection Clearance Officer, at email: Hodan.Wells@dot.gov or telephone: (202) 868-9412, or Ms. Senya Waas, Attorney Adviser, at email: Senyaann.Waas@dot.gov or telephone: (202) 875-4158.

SUPPLEMENTARY INFORMATION: The PRA, 44 U.S.C. 3501-3520, and its implementing regulations, 5 CFR part 1320, require Federal agencies to provide 60-days' notice to the public to allow comment on information collection activities before seeking OMB approval of the activities. See 44 U.S.C. 3506, 3507; 5 CFR 1320.8-1320.12. Specifically, FRA invites interested parties to comment on the following ICR regarding: (1) whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal statutes and regulations mandate. In summary, FRA reasons that comments received will advance three objectives: (1) reduce reporting burdens; (2) organize information collection requirements in a “user-friendly” format to improve the use of such information; and (3) accurately assess the resources expended to retrieve and produce information requested. See 44 U.S.C. 3501.

The summary below describes the ICR that FRA will submit for OMB clearance as the PRA requires:

Title: Positive Train Control (PTC) and Other Signal Systems.

OMB Control Number: 2130-0553.

Abstract: FRA's regulations require that both railroads and PTC vendors and suppliers notify FRA of certain PTC system errors and malfunctions. 49 CFR 236.1023. For example, railroads must maintain a database of all safety-relevant hazards identified in their PTC Safety Plans (PTCSP) and those that had not previously been identified in their PTCSPs. 49 CFR 236.1023(e). If the frequency of a safety-relevant hazard exceeds the thresholds in a railroad's PTCSP, or such hazard has not been previously identified in a railroad's risk analysis, then the railroad must notify FRA of the failure, malfunction, or defective condition that decreased or eliminated the safety functionality of the railroad's PTC system. 49 CFR 236.1023(e)(1). In addition, FRA's regulations require PTC vendors and suppliers to notify FRA of any safety-relevant failure, defective condition, or previously unidentified hazard discovered by the vendor or supplier and the identify of each affected and notified railroad. 49 CFR 236.1023(h)(2). Currently, each railroad or PTC vendor and supplier that must submit notifications of such a failure, malfunction, or defective condition does so by emailing the information to an FRA inbox (FRAPart2361023Notification@dot.gov). The information is sent in different formats by each railroad or PTC supplier and vendor because there is currently no standardized form.

Therefore, FRA is hereby proposing to standardize the reporting process required by 49 CFR 236.1023(e)(1), (h), and (f) by creating the Errors and Malfunctions Notification Form (Form FRA F 6180.179), which is one part of the existing information collection request under OMB Control No. 2130-0553. This proposed Form FRA F 6180.179 will be in an Excel format and will make it easier for the entities to notify FRA of each applicable failure, malfunction, or defective condition, and for FRA to synthesize and act on the reported failure. The Errors and Malfunctions Notification Form would not change the requirements that each railroad or PTC supplier and vendor currently must follow to notify FRA of each reportable failure, malfunction, or defective condition. See, e.g., 49 CFR 236.1023(e), (h), and (f). The proposed Form FRA F 6180.179 would be submitted to FRAPart2361023Notification@dot.gov within the 15-day deadline under 49 CFR 236.1023(f)(1).

With the current reporting process, FRA estimated that each notification would take 8 hours to prepare. With the new standardized Form, FRA estimates that, on average, each notification will reduce to 7.5 hours to prepare if the railroad or PTC supplier or vendor uses the FRA-provided Excel Form. This estimate is based on the fact that the proposed new Form FRA F 6180.179 offers drop-down menus that would allow railroads or PTC suppliers and vendors to select an answer from an established list, instead of creating each answer from scratch. The revised burden would also account for the review of the instructions in the FRA-provided Excel Form. Thus, FRA estimates that by creating this Form, the total annual burden hours will decrease by 14 hours.¹

¹ The current inventory exhibits a total burden of 51,993 hours and 4,567,826 responses, while the total burden in this notice is 51,979 hours and 4,567,826 responses. The decrease in burden is due to a program change.

Type of Request: Revision to a currently approved collection.

Affected Public: Businesses.

Form(s): FRA F 6180.152 (existing form) and FRA F 6180.179 (new form).

Respondent Universe: 742 railroads.

Frequency of Submission: On occasion.

Reporting Burden:

CFR section | Respondent universe | Total annual responses | Average time per response | Total annual burden hours | Total annual dollar cost equivalent
|  | (A) | (B) | (C) = A * B | (D) = C * wage rates ²
235.6(c)—Expedited application for approval of certain changes described in this section | 42 railroads | 10 expedited applications | 5 hours | 50 | $3,850
—Copy of expedited application to labor union | 42 railroads | 10 copies | 30 minutes | 5 | 385
—Railroad letter rescinding its request for expedited application of certain signal system changes | 42 railroads | 1 letter | 6 hours | 6 | 462
—Revised application for certain signal system changes | 42 railroads | 1 application | 5 hours | 5 | 385
—Copy of railroad revised application to labor union | 42 railroads | 1 copy | 30 minutes | 0.5 | 39
236.1—Railroad-maintained signal plans at all interlockings, automatic signal locations, and controlled points, and updates to ensure accuracy | 700 railroads | 25 plan changes | 15 minutes | 6.25 | 481
236.15—Designation of automatic block, traffic control, train stop, train control, cab signal, and PTC territory in timetable instructions | 700 railroads | 10 timetable instructions | 30 minutes | 5 | 385
236.18—Software management control plan—New railroads | 2 railroads | 2 plans | 160 hours | 320 | 24,640
236.23(e)—The names, indications, and aspects of roadway and cab signals shall be defined in the carrier's Operating Rule Book or Special Instructions. Modifications shall be filed with FRA within 30 days after such modifications become effective | 700 railroads | 2 modifications | 1 hour | 2 | 154
236.587(d)—Certification and departure test results | 742 railroads | 4,562,500 train departures | 5 seconds | 6,336.81 | 487,934
236.905(a)—Railroad Safety Program Plan (RSPP)—New railroads | 2 railroads | 2 RSPPs | 40 hours | 80 | 6,160
236.913(a)—Filing and approval of a joint Product Safety Plan (PSP) | 742 railroads | 1 joint plan | 2,000 hours | 2,000 | 240,000
(c)(1)—Informational filing/petition for special approval | 742 railroads | 0.5 filings/approval petitions | 50 hours | 25 | 1,925
(c)(2)—Response to FRA's request for further data after informational filing | 742 railroads | 0.25 data calls/documents | 5 hours | 1.25 | 96
(d)(1)(ii)—Response to FRA's request for further information within 15 days after receipt of the Notice of Product Development (NOPD) | 742 railroads | 0.25 data calls/documents | 1 hour | 0.25 | 19
(d)(1)(iii)—Technical consultation by FRA with the railroad on the design and planned development of the product | 742 railroads | 0.25 technical consultations | 5 hours | 1.25 | 96
(d)(1)(v)—Railroad petition to FRA for final approval of NOPD | 742 railroads | 0.25 petitions | 1 hour | 0.25 | 19
(d)(2)(ii)—Response to FRA's request for additional information associated with a petition for approval of PSP or PSP amendment | 742 railroads | 1 request | 50 hours | 50 | 3,850
(e)—Comments to FRA on railroad informational filing or special approval petition | 742 railroads | 0.5 comments/letters | 10 hours | 5 | 385
(h)(3)(i)—Railroad amendment to PSP | 742 railroads | 2 amendments | 20 hours | 40 | 3,080
(j)—Railroad field testing/information filing document | 742 railroads | 1 field test document | 100 hours | 100 | 7,700
236.917(a)—Railroad retention of records: results of tests and inspections specified in the PSP | 13 railroads with PSP | 13 PSP safety results | 160 hours | 2,080 | 160,160
(b)—Railroad report that frequency of safety-relevant hazards exceeds threshold set forth in PSP | 13 railroads | 1 report | 40 hours | 40 | 3,080
(b)(3)—Railroad final report to FRA on the results of the analysis and countermeasures taken to reduce the frequency of safety-relevant hazards | 13 railroads | 1 report | 10 hours | 10 | 770
236.919(a)—Railroad Operations and Maintenance Manual (OMM) | 13 railroads | 1 OMM update | 40 hours | 40 | 3,080
(b)—Plans for proper maintenance, repair, inspection, and testing of safety-critical products | 13 railroads | 1 plan update | 40 hours | 40 | 3,080
(c)—Documented hardware, software, and firmware revisions in OMM | 13 railroads | 1 revision | 40 hours | 40 | 3,080
236.921 and 236.923(a)—Railroad Training and Qualification Program | 13 railroads | 1 program | 40 hours | 40 | 3,080
236.923(b)—Training records retained in a designated location and available to FRA upon request | 13 railroads | 350 records | 10 minutes | 58.33 | 4,491
236.1001(b)—A railroad's additional or more stringent rules than prescribed under 49 CFR part 236, subpart I | 38 railroads | 1 rule or instruction | 40 hours | 40 | 4,800
236.1005(b)(4)(i)-(ii)—A railroad's submission of estimated traffic projections for the next 5 years, to support a request, in a PTC Implementation Plan (PTCIP) or a request for amendment (RFA), not to implement a PTC system based on reductions in rail traffic | The burden is accounted for under 49 CFR 236.1009(a) and 236.1021.
(b)(4)(iii)—A railroad's request for a de minimis exception, in a PTCIP or an RFA, based on a minimal quantity of poisonous-by-inhalation materials traffic | 7 Class I railroads | 1 exception request | 40 hours | 40 | 3,080
(b)(5)—A railroad's request to remove a line from its PTCIP based on the sale of the line to another railroad and any related request for FRA review from the acquiring railroad | The burden is accounted for under 49 CFR 236.1009(a) and 236.1021.
(g)(1)(i)—A railroad's request to temporarily reroute trains not equipped with a PTC system onto PTC-equipped tracks and vice versa during certain emergencies | 38 railroads | 45 rerouting extension requests | 8 hours | 360 | 27,720
(g)(1)(ii)—A railroad's written or telephonic notice of the conditions necessitating emergency rerouting and other required information under 236.1005(i) | 38 railroads | 45 written or telephonic notices | 2 hours | 90 | 6,930
(g)(2)—A railroad's temporary rerouting request due to planned maintenance not exceeding 30 days | 38 railroads | 720 requests | 8 hours | 5,760 | 443,520
(h)(1)—A response to any request for additional information from FRA, prior to commencing rerouting due to planned maintenance | 38 railroads | 10 requests | 2 hours | 20 | 1,540
(h)(2)—A railroad's request to temporarily reroute trains due to planned maintenance exceeding 30 days | 38 railroads | 160 requests | 8 hours | 1,280 | 98,560
236.1006(b)(4)(iii)(B)—A progress report due by December 31, 2020, and by December 31, 2022, from any Class II or III railroad utilizing a temporary exception under this section | 262 railroads | 5 reports | 16 hours | 80 | 6,160
(b)(5)(vii)—A railroad's request to utilize different yard movement procedures, as part of a freight yard movements exception | The burden is accounted for under 49 CFR 236.1015 and 236.1021.
236.1007(b)(1)—For any high-speed service over 90 miles per hour (mph), a railroad's PTC Safety Plan (PTCSP) must additionally establish that the PTC system was designed and will be operated to meet the fail-safe operation criteria in appendix C | The burden is accounted for under 49 CFR 236.1015 and 236.1021.
(c)—An HSR-125 document accompanying a host railroad's PTCSP, for operations over 125 mph | 38 railroads | 1 HSR-125 document | 3,200 hours | 3,200 | 384,000
(c)(1)—A railroad's request for approval to use foreign service data, prior to submission of a PTCSP | 38 railroads | 0.33 requests | 8,000 hours | 2,640 | 203,280
(d)—A railroad's request in a PTCSP that FRA excuse compliance with one or more of this section's requirements | 38 railroads | 1 request | 1,000 hours | 1,000 | 120,000
236.1009(a)(2)—A PTCIP if a railroad becomes a host railroad of a main line requiring the implementation of a PTC system, including the information under 49 U.S.C. 20157(a)(2) and 49 CFR 236.1011 | 264 railroads | 1 PTCIP | 535 hours | 535 | 64,200
(a)(3)—Any new PTCIPs jointly filed by a host railroad and a tenant railroad | 264 railroads | 1 joint PTCIP | 267 hours | 267 | 32,040
(b)(1)—A host railroad's submission, individually or jointly with a tenant railroad or PTC system supplier, of an unmodified Type Approval | 264 railroads | 1 document | 8 hours | 8 | 616
(b)(2)—A host railroad's submission of a PTC Development Plan (PTCDP) with the information required under 49 CFR 236.1013, requesting a Type Approval for a PTC system that either does not have a Type Approval or has a Type Approval that requires one or more variances | 264 railroads | 1 PTCDP | 2,000 hours | 2,000 | 154,000
(d)—A host railroad's submission of a PTCSP | The burdens are accounted for under 49 CFR 236.1015.
(e)(3)—Any request for full or partial confidentiality of a PTCIP, Notice of Product Intent (NPI), PTCDP, or PTCSP | 38 railroads | 10 confidentiality requests | 8 hours | 80 | 6,160
(h)—Any responses or documents submitted in connection with FRA's use of its authority to monitor, test, and inspect processes, procedures, facilities, documents, records, design and testing materials, artifacts, training materials and programs, and any other information used in the design, development, manufacture, test, implementation, and operation of the PTC system, including interviews with railroad personnel | 38 railroads | 36 interviews and documents | 4 hours | 144 | 11,088
(j)(2)(iii)—Any additional information provided in response to FRA's consultations or inquiries about a PTCDP or PTCSP | 38 railroads | 1 set of additional information | 400 hours | 400 | 30,800
236.1011(a)-(b)—PTCIP content requirements | The burdens are accounted for under 49 CFR 236.1009(a) and (e) and 236.1021.
(e)—Any public comment on PTCIPs, NPIs, PTCDPs, and PTCSPs | 38 railroads | 2 public comments | 8 hours | 16 | 1,232
236.1013—PTCDP and NPI content requirements | The burdens are accounted for under 49 CFR 236.1009(b), (c), and (e) and 236.1021.
236.1015—Any new host railroad's PTCSP meeting all content requirements under 49 CFR 236.1015 | 264 railroads | 1 PTCSP | 8,000 hours | 8,000 | 616,000
(g)—A PTCSP for a PTC system replacing an existing certified PTC system | 38 railroads | 0.33 PTCSPs | 3,200 hours | 1,056 | 81,312
(h)—A quantitative risk assessment, if FRA requires one to be submitted | 38 railroads | 0.33 assessments | 800 hours | 264 | 20,328
236.1017(a)—An independent third-party assessment, if FRA requires one to be conducted and submitted | 38 railroads | 0.33 assessments | 1,600 hours | 528 | 63,360
(b)—A railroad's written request to confirm whether a specific entity qualifies as an independent third party | 38 railroads | 0.33 written requests | 8 hours | 2.64 | 203
—Further information provided to FRA upon request | 38 railroads | 0.33 sets of additional information | 20 hours | 6.6 | 508
(d)—A request not to provide certain documents otherwise required under Appendix F for an independent, third-party assessment | 38 railroads | 0.33 requests | 20 hours | 6.6 | 508
(e)—A request for FRA to accept information certified by a foreign regulatory entity for purposes of 49 CFR 236.1017 and/or 236.1009(i) | 38 railroads | 0.33 requests | 32 hours | 10.56 | 813
236.1019(b)—A request for a passenger terminal main line track exception (MTEA) | 38 railroads | 1 MTEA | 160 hours | 160 | 12,320
(c)(1)—A request for a limited operations exception (based on restricted speed, temporal separation, or a risk mitigation plan) | 38 railroads | 1 request and/or plan | 160 hours | 160 | 12,320
(c)(2)—A request for a limited operations exception for a non-Class I, freight railroad's track | 10 railroads | 1 request | 160 hours | 160 | 12,320
(c)(3)—A request for a limited operations exception for a Class I railroad's track | 7 railroads | 1 request | 160 hours | 160 | 12,320
(d)—A railroad's collision hazard analysis in support of an MTEA, if FRA requires one to be conducted and submitted | 38 railroads | 0.33 collision hazard analysis | 50 hours | 16.5 | 1,271
(e)—Any temporal separation procedures utilized under the 49 CFR 236.1019(c)(1)(ii) exception | The burdens are accounted for under 49 CFR 236.1019(c)(1).
236.1021(a)-(d)—Any RFA to a railroad's PTCIP or PTCDP | 38 railroads | 10 RFAs | 160 hours | 1,600 | 123,200
(e)—Any public comments, if an RFA includes a request for approval of a discontinuance or material modification of a signal or train control system and a Federal Register notice is published | 5 interested parties | 10 RFA public comments | 16 hours | 160 | 12,320
(l)—Any jointly filed RFA to a PTCDP or PTCSP | The burdens are accounted for under 49 CFR 236.1021(a)-(d) and (m).
(m)—Any RFA to a railroad's PTCSP | 38 railroads | 15 RFAs | 80 hours | 1,200 | 92,400
236.1023(a)—A railroad's PTC Product Vendor List, which must be continually updated | 38 railroads | 2 updated lists | 8 hours | 16 | 1,232
(b)(1)—All contractual arrangements between a railroad and its hardware and software suppliers or vendors for certain immediate notifications | The burdens are accounted for under 49 CFR 236.1015 and 236.1021.
(b)(2)-(3)—A vendor's or supplier's notification, upon receipt of a report of any safety-critical failure of its product, to any railroads using the product | 10 vendors or suppliers | 10 notifications | 8 hours | 80 | 6,160
(c)(1)-(2)—A railroad's process and procedures for taking action upon being notified of a safety-critical failure or a safety-critical upgrade, patch, revision, repair, replacement, or modification, and a railroad's configuration/revision control measures, set forth in its PTCSP | The burdens are accounted for under 49 CFR 236.1015 and 236.1021.
(d)—A railroad's submission, to the applicable vendor or supplier, of the railroad's procedures for action upon notification of a safety-critical failure, upgrade, patch, or revision to the PTC system and actions to be taken until it is adjusted, repaired, or replaced | 38 railroads | 2.5 notifications | 16 hours | 40 | 3,080
(e)—A railroad's database of all safety-relevant hazards, which must be maintained after the PTC system is placed in service | 38 railroads | 38 database updates | 16 hours | 608 | 46,816
(e)(1)—A railroad's notification to the vendor or supplier and FRA if the frequency of a safety-relevant hazard exceeds the threshold set forth in the PTCDP and PTCSP, and about the failure, malfunction, or defective condition that decreased or eliminated the safety functionality—Form FRA F 6180.179—Errors and Malfunctions Notification (Revised requirement) | 38 railroads | 8 notifications | 7.5 hours | 60 | 4,620
(e)(2)—Continual updates about any and all subsequent failures | 38 railroads | 1 update | 8 hours | 8 | 616
(f)—Any notifications that must be submitted to FRA under 49 CFR 236.1023 | The burdens are accounted for under 49 CFR 236.1023(e), (g), and (h).
(g)—A railroad's and vendor's or supplier's report, upon FRA request, about an investigation of an accident or service difficulty due to a manufacturing or design defect and their corrective actions | 38 railroads | 0.5 reports | 40 hours | 20 | 1,540
(h)—A PTC system vendor's or supplier's reports of any safety-relevant failures, defective conditions, previously unidentified hazards, recommended mitigation actions, and any affected railroads—Form FRA F 6180.179—Errors and Malfunctions Notification (Revised requirement) | 10 vendors or suppliers | 20 reports | 7.5 hours | 150 | 11,550
(k)—A report of a failure of a PTC system resulting in a more favorable aspect than intended or other condition hazardous to the movement of a train, including the reports required under part 233 | The burdens are accounted for under 49 CFR 236.1023(e), (g), and (h) and 49 CFR part 233.
236.1029(b)(4)—A report of an en route failure, other failure, or cut out to a designated railroad officer of the host railroad | 150 host and tenant railroads | 1,000 reports | 30 minutes | 500 | 38,500
Form FRA F 6180.152—49 U.S.C. 20157(m) and 49 CFR 236.1029(h)—Quarterly Report of PTC System Performance (*Revised requirement and updated form*) | 38 railroads | 146 reports | 32 hours | 4,672 | 359,744
236.1033—Communications and security requirements | The burdens are accounted for under 49 CFR 236.1009 and 236.1015.
236.1035(a)-(b)—A railroad's request for authorization to field test an uncertified PTC system and any responses to FRA's testing conditions | 38 railroads | 10 requests | 40 hours | 400 | 30,800
236.1037(a)(1)-(2)—Records retention | The burdens are accounted for under 49 CFR 236.1009 and 236.1015.
(a)(3)-(4)—Records retention | The burdens are accounted for under 49 CFR 236.1039 and 236.1043(b).
(b)—Results of inspections and tests specified in a railroad's PTCSP and PTCDP | 38 railroads | 800 records | 1 hour | 800 | 61,600
(c)—A contractor's records related to the testing, maintenance, or operation of a PTC system maintained at a designated office | 20 contractors | 1,600 records | 10 minutes | 266.67 | 20,534
(d)(3)—A railroad's final report of the results of the analysis and countermeasures taken to reduce the frequency of safety-related hazards below the threshold set forth in the PTCSP | 38 railroads | 8 final reports | 160 hours | 1,280 | 98,560
236.1039(a)-(c), (e)—A railroad's PTC OMM, which must be maintained and available to FRA upon request | 38 railroads | 2 OMM updates | 10 hours | 20 | 1,540
(d)—A railroad's identification of a PTC system's safety-critical components, including spare equipment | 38 railroads | 1 identified new component | 1 hour | 1 | 77
236.1041(a)-(b) and 236.1043(a)—A railroad's PTC Training and Qualification Program (i.e., a written plan) | 38 railroads | 2 programs | 10 hours | 20 | 1,540
236.1043(b)—Training records retained in a designated location and available to FRA upon request | 150 host and tenant railroads | 150 PTC training record databases | 1 hour | 150 | 11,550
Total | N/A | 4,567,826 responses | N/A | 51,979 | 4,328,077

Total Estimated Annual Responses: 4,567,826.

² The dollar equivalent cost is derived from the 2019 STB Full Year Wage A&B data series using the appropriate employee group hourly wage rate that includes a 75-percent overhead charge. For Executives, Officials, and Staff Assistants, this cost amounts to $120 per hour. For Professional/Administrative staff, this cost amounts to $77 per hour.

Total Estimated Annual Burden: 51,979 hours.

Total Estimated Annual Burden Hour Dollar Cost Equivalent: $4,328,077.

FRA informs all interested parties that it may not conduct or sponsor, and a respondent is not required to respond to, a collection of information that does not display a currently valid OMB control number.

Authority: 44 U.S.C. 3501-3520; 49 U.S.C. 20157.

Brett A. Jortland,
Deputy Chief Counsel.

[FR Doc. 2022-24723 Filed 11-10-22; 8:45 am]

BILLING CODE 4910-06-P